NUCLEAR REGULATORY COMMISSION

10 CFR Parts 50 and 52

[Docket No. PRM-50-118; NRC-2019-0071]

Measurement Standards Used at U.S. Nuclear Power Plants

AGENCY: Nuclear Regulatory Commission.

ACTION: Petition for rulemaking; notice of docketing and request for comment.

SUMMARY: The U.S. Nuclear Regulatory Commission (NRC) has received a petition for rulemaking from Michael Taylor, dated December 3, 2018, as amended on January 24, 2019. The petitioner requests that the NRC amend its regulations to revise the measurement standards used at U.S. nuclear power plants. The petition was docketed by the NRC on March 4, 2019, and has been assigned Docket No. PRM-50-118. The NRC is examining the issues raised in PRM-50-118 to determine whether they should be considered in rulemaking. The NRC is requesting public comment on this petition.

DATES: Submit comments by July 29, 2019. Comments received after this date will be considered if it is practical to do so, but the NRC is able to assure consideration only for comments received on or before this date.

ADDRESSES: You may submit comments by any of the following methods:

• Federal Rulemaking Website: Go to http://www.regulations.gov and search for Docket ID NRC-2019-0084. Address questions about NRC dockets to Carol Gallagher; telephone: 301-415-3463; email: Carol.Gallagher@nrc.gov. For technical questions contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Solomon Sahle, U.S. Nuclear Regulatory Commission, Washington, DC 20555-0001; telephone: 301-415-3407; email: Solomon.Sahle@nrc.gov.

SUPPLEMENTARY INFORMATION:

I. Obtaining Information and Submitting Comments

A. Obtaining Information

Please refer to Docket ID NRC-2019-0071 when contacting the NRC about the availability of information for this action. You may obtain publicly-available information related to this action by any of the following methods:

• Federal Rulemaking Website: Go to http://www.regulations.gov and search for Docket ID NRC-2019-0071.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0071 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. The Petitioner and Petition

The petition was filed by Michael Taylor. Michael Taylor is a private citizen. The petitioner is requesting that the NRC amend its regulations regarding the measurement standards used at U.S. nuclear power plants. The petitioner is concerned that U.S. nuclear power plants are not required to use or have internal metrology or calibration laboratories that are certified under accrediting organization standards, as a part of normal and required operations. The petitioner observed that certain important factors are not currently considered in measurements conducted at nuclear power plants, including the ratio of measurement standards to units under test. The petitioner proposed that the NRC require all internal metrology/calibration laboratories in U.S. nuclear power plants to become accredited by an accrediting organization, and require training of all personnel and their management that make measurements at nuclear power plants. The petition may be found in ADAMS at Accession No. ML19074A303.

III. Discussion of the Petition

The petitioner requests that the NRC revise its regulations to require internal metrology or calibration laboratories in U.S. nuclear power plants to become accredited by accrediting organizations such as the American Association for Laboratory Accreditation, National Voluntary Laboratory Accreditation Program, under the guidance of International Organization for Standardization (ISO) and American National Standards Institute (ANSI) (specifically, under guidance ISO/IEC 17025 or ANSI/NCSLI Z540.3), as a part of normal and required operations. The petitioner notes that some nuclear power plant metrology laboratories are accredited under these standards voluntarily, but also notes that the lack of requirements for nuclear power plants allows for degraded measurements and is a safety concern. The petitioner also states that, according to these standards and scientific documents, measurements made without this guidance are subject to significant errors. The petitioner contends that this leads to an unresolved safety issue for “Q” measurements in particular. The petitioner also states existing internal quality assurance and documents and standards currently in use for inspections and audits do not adequately address this concern.

Dated at Rockville, Maryland, this 9th day of May 2019.
For the Nuclear Regulatory Commission.
Annette L. Vietti-Cook,
Secretary of the Commission.

[FR Doc. 2019-09981 Filed 5-14-19; 8:45 am]

BILLING CODE 7590-01-P